DEPARTMENT OF THE INTERIOR

Bureau of Land Management

[LLNML003100 L54100000.LKD0000.LVCLG10ZGKD0; NMNM123808]

Notice of Realty Action: Notice of Receipt of Conveyance of Federally Owned Mineral Interests Application, Doña Ana County, NM

AGENCY: Bureau of Land Management, Interior.

ACTION: Notice of realty action.

SUMMARY: The surface owner, NRG Solar Roadrunner, LLC, filed an application with the Bureau of Land Management (BLM) on August 24, 2009, for the conveyance of the federally owned mineral interest on a 444-acre tract of land in Doña Ana County, New Mexico, which is described in this notice. Publication of this notice temporarily segregates the mineral interests in the land from appropriation under the mining and mineral leasing laws for up to 2 years while the application is being processed.

DATES: Interested persons may submit written comments to the BLM at the address listed below. Comments must be received no later than August 25, 2011.

ADDRESSES: BLM, Las Cruces District Office, 1800 Marquess Street, Las Cruces, New Mexico 88005.

FOR FURTHER INFORMATION CONTACT: Kendrah Penn, Realty Specialist, at the above address, by telephone at (575) 525-4382, or by e-mail at Kendrah_Penn@blm.gov. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The tract of land referred to in this notice consists of approximately 444 acres, situated in Doña Ana County and is described as a metes and bounds parcel within the following:

New Mexico Principal Meridian

T. 29 S., R. 3 E.,

Secs. 5 to 8, inclusive.

The area contains 444 acres, more or less, in Doña Ana County.

For the full metes and bounds legal description contact the BLM Las Cruces District Office at the address or phone number above.

Under certain conditions, Section 209(b) of the Federal Land Policy and Management Act of October 21, 1976, 43 U.S.C. 1719, authorizes the sale and conveyance of the federally owned mineral interests in land to the surface owner or prospective surface owner when the surface is not federally owned and upon payment of administrative costs. The objective is to allow consolidation of the surface and mineral interests when either one of the following conditions exist: (1) There are no known mineral values in the land; or (2) Where continued Federal ownership of the mineral interests interferes with or precludes appropriate non-mineral development and such development is a more beneficial use of the land than mineral development.

Subject to valid existing rights, on July 11, 2011, the federally owned mineral interests in the public lands covered by the application and described above are segregated from appropriation under the public land laws, including the mining laws, while the application is being processed to determine if either of the two specified conditions exist, and to otherwise comply with the procedural requirements of 43 CFR part 2720. The segregative effect of the application shall terminate upon (i) Issuance of a patent or other document of conveyance as to such mineral interests; (ii) Upon final rejection of the application; or (iii) July 11, 2013, whichever occurs first.

Before including your address, phone number, email address, or other personal identifying information in your comment, you should be aware that your entire comment—including your personal identifying information—may be made publicly available at any time. While you can ask us in your comment to withhold your personal identifying information from public review, we cannot guarantee that we will be able to do so.

Authority: 43 CFR 2720.1-1(b).

Jim C. McCormick, Jr.,
Acting District Manager, Las Cruces.

[FR Doc. 2011-17301 Filed 7-8-11; 8:45 am]

BILLING CODE 4310-VC-P